DEPARTMENT OF HOMELAND SECURITY

Federal Emergency Management Agency

[Docket ID FEMA-2023-0002; Internal Agency Docket No. FEMA-B-2321]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown be finalized the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described is provided or each community in this notice. However, the online location and local community map repository address where the flood hazard determination information is available for inspection is provided.

Any request for reconsideration of flood hazard determinations must be submitted to the Chief Executive Officer of the community as listed in the table below.

The modifications are provided pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. Are required hey should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Alabama:
Montgomery | Town of Pike Road (22-04-4846P). | The Honorable Gordon Stone, Mayor, Town of Pike Road, P.O. Box 640339, Pike Road, AL 36064. | Town Hall, 9575 Vaughn Road, Pike Road, AL 36064. | https://msc.fema.gov/portal/advanceSearch. | Jun. 2, 2023 | 010433
Montgomery | Unincorporated areas of Montgomery County (22-04-4846P). | The Honorable Doug Singleton, Commissioner, Montgomery County Commission, P.O. Box 1667, Montgomery, AL 36102. | Montgomery County Engineering Department, 100 South Lawrence Street, 2nd Floor, Montgomery, AL 36104. | https://msc.fema.gov/portal/advanceSearch. | Jun. 2, 2023 | 010278
Colorado:
Arapahoe | Unincorporated areas of Arapahoe County (23-08-0031X). | The Honorable Nancy Jackson, Chair, Arapahoe County Board of Commissioners, 5334 South Prince Street, Littleton, CO 80210. | Arapahoe County Public Works and Development Department, 6924 South Lima Street, Centennial, CO 80112. | https://msc.fema.gov/portal/advanceSearch. | Apr. 21, 2023 | 080011
Douglas | Town of Castle Rock (22-08-0258P). | The Honorable Jason Gray, Mayor, Town of Castle Rock, 100 North Wilcox Street, Castle Rock, CO 80104. | Water Department, 175 Kellogg Court, Castle Rock, CO 80109. | https://msc.fema.gov/portal/advanceSearch. | Apr. 28, 2023 | 080050
Douglas | Unincorporated areas of Douglas County (22-08-0258P). | The Honorable Abe Laydon, Chair, Douglas County Board of Commissioners, 100 3rd Street, Castle Rock, CO 80104. | Douglas County Department of Public Works, 100 3rd Street, Castle Rock, CO 80104. | https://msc.fema.gov/portal/advanceSearch. | Apr. 28, 2023 | 080049
Jefferson | Unincorporated areas of Jefferson County (22-08-0193P). | The Honorable Andy Kerr, Chair, Jefferson County Board of Commissioners, 100 Jefferson County Parkway, Suite 5550, Golden, CO 80419. | Jefferson County Planning and Zoning Division, 100 Jefferson County Parkway, Suite 5550, Golden, CO 80419. | https://msc.fema.gov/portal/advanceSearch. | Apr. 21, 2023 | 080087
Larimer | Unincorporated areas of Larimer County (22-08-0541P). | The Honorable Kristin Stephens, Chair, Larimer County Board of Commissioners, P.O. Box 1190, Fort Collins, CO 80522. | Larimer County Administrative Offices Building, 200 West Oak Street, Suite 3000, Fort Collins, CO 80521. | https://msc.fema.gov/portal/advanceSearch. | May 31, 2023 | 080101
Florida:
Bay | Unincorporated areas of Bay County (22-04-0621P). | The Honorable Robert Carroll, Chair, Bay County Board of Commissioners, 840 West 11th Street, Panama City, FL 32401. | Bay County Planning Department, 840 West 11th Street, Panama City, FL 32401. | https://msc.fema.gov/portal/advanceSearch. | Apr. 19, 2023 | 120004
Broward | Town of Hillsboro Beach (22-04-4947P). | Mac Serda, Manager, Town of Hillsboro Beach, 1210 Hillsboro Mile, Hillsboro Beach, FL 33062. | Building Department, 1210 Hillsboro Mile, Hillsboro Beach, FL 33062. | https://msc.fema.gov/portal/advanceSearch. | May 1, 2023 | 120040
Monroe | Unincorporated areas of Monroe County (23-04-0047P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | May 4, 2023 | 125129
Monroe | Unincorporated areas of Monroe County (23-04-0293P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | May 25, 2023 | 125129
Monroe | Village of Islamorada (23-04-0348P). | The Honorable Joseph Buddy Pinder III, Mayor, Village of Islamorada, 86800 Overseas Highway, Islamorada, FL 33036. | Building Department, 86800 Overseas Highway, Islamorada, FL 33036. | https://msc.fema.gov/portal/advanceSearch. | May 25, 2023 | 120424
Palm Beach | Unincorporated areas of Palm Beach County (22-04-0989P). | Verdenia C. Baker, Palm Beach County Administrator, 301 North Olive Avenue, Suite 1101, West Palm Beach, FL 33401. | Palm Beach County Vista Center, 2300 North Jog Road, West Palm Beach, FL 33411. | https://msc.fema.gov/portal/advanceSearch. | May 23, 2023 | 120192
Georgia: Columbia | Unincorporated areas of Columbia County (21-04-3381P). | The Honorable Douglas R. Duncan, Jr., Chair, Columbia County Board of Commissioners, 630 Ronald Reagan Drive, Building B, Evans, GA 30809. | Columbia County Engineering Services Division, Stormwater Compliance Department, 630 Ronald Reagan Drive, Evans, GA 30809. | https://msc.fema.gov/portal/advanceSearch. | May 4, 2023 | 130059
Maryland: Baltimore | Unincorporated areas of Baltimore County (22-03-0752P). | The Honorable John A. Olszewski, Jr., Baltimore County Executive, 400 Washington Avenue, Towson, MD 21204. | Baltimore County Department of Public Works and Transportation, 111 West Chesapeake Avenue, Room 205, Towson, MD 21204. | https://msc.fema.gov/portal/advanceSearch. | May 19, 2023 | 240010
Montana:
Missoula | City of Missoula (22-08-0126P). | Jordan Hess, Mayor, City of Missoula, 435 Ryman Street, Missoula, MT 59802. | City Hall, 435 Ryman Street, Missoula, MT 59802. | https://msc.fema.gov/portal/advanceSearch. | May 22, 2023 | 300049
Missoula | Unincorporated areas of Missoula County (22-08-0126P). | Chris Lounsbury, Chief Administrative Officer, Missoula County, 200 West Broadway Street, Missoula, MT 59802. | Missoula County Department of Planning, Development and Sustainability, 127 East Main Street, Suite 2, Missoula, MT 59802. | https://msc.fema.gov/portal/advanceSearch. | May 22, 2023 | 300048
New Mexico:
Dona Ana | City of Las Cruces (22-06-1258P). | The Honorable Ken Miyagishima, Mayor, City of Las Cruces, 700 North Main Street, Las Cruces, NM 88001. | Community Development Department, 700 North Main Street, Las Cruces, NM 88001. | https://msc.fema.gov/portal/advanceSearch. | May 22, 2023 | 355332
Dona Ana | Unincorporated areas of Dona Ana County (22-06-1258P). | The Honorable Manuel Sanchez, Chair, Dona Ana County Board of Commissioners, 845 North Motel Boulevard, Las Cruces, NM 88007. | Dona Ana County Flood Commission, 845 North Motel Boulevard, Las Cruces, NM 88007. | https://msc.fema.gov/portal/advanceSearch. | May 22, 2023 | 350012
North Carolina:
Buncombe | Unincorporated areas of Buncombe County (22-04-4158P) | The Honorable Brownie Newman, Chair, Buncombe County Board of Commissioners, 200 College Street, Suite 300, Asheville, NC 28801. | Buncombe County Planning Department, 46 Valley Street, Asheville, NC 28801. | https://msc.fema.gov/portal/advanceSearch. | May. 26, 2023 | 370031
Henderson | Village of Flat Rock (22-04-1155P). | The Honorable Nick Weedman, Mayor, Village of Flat Rock, P.O. Box 1288, Flat Rock, NC 28731. | Village Hall, 110 Village Center Drive, Flat Rock, NC 28731. | https://msc.fema.gov/portal/advanceSearch. | Mar. 10, 2023 | 370565
Moore | Village of Pinehurst (22-04-4043P). | The Honorable John C. Strickland, Mayor, Village of Pinehurst, 395 Magnolia Road, Pinehurst, NC 28374. | Planning and Inspections Department, 395 Magnolia Road, Pinehurst, NC 28374. | https://msc.fema.gov/portal/advanceSearch. | Jun. 8, 2023 | 370463
Oklahoma: Oklahoma | City of Edmond (22-06-0815P). | The Honorable Darrell A. Davis, Mayor, City of Edmond, P.O. Box 2970, Edmond, OK 73083. | Engineering Department, Stormwater Management, 10 South Littler Avenue, Edmond, OK 73034. | https://msc.fema.gov/portal/advanceSearch. | May 19, 2023 | 400252
Rhode Island:
Kent | City of Warwick (22-01-0564P). | The Honorable Frank J. Picozzi, Mayor, City of Warwick, 3275 Post Road, Warwick, RI 02886. | Building Department, 65 Centerville Road, Warwick, RI 02886. | https://msc.fema.gov/portal/advanceSearch. | Apr. 28, 2023 | 445409
Providence | City of Cranston (22-01-0564P). | The Honorable Kenneth J. Hopkins, Mayor, City of Cranston, 869 Park Avenue, Cranston, RI 02910. | Planning Department, 869 Park Avenue, Cranston, RI 02910. | https://msc.fema.gov/portal/advanceSearch. | Apr. 28, 2023 | 445396
South Carolina:
Dorchester | Town of Summerville (22-04-2209P). | The Honorable Ricky Waring, Mayor, Town of Summerville, 200 South Main Street, Summerville, SC 29483. | Engineering Department, 200 South Main Street, Summerville, SC 29483. | https://msc.fema.gov/portal/advanceSearch. | May 18, 2023 | 450073
Dorchester | Town of Summerville (22-04-2210P). | The Honorable Ricky Waring, Mayor, Town of Summerville, 200 South Main Street, Summerville, SC 29483. | Engineering Department, 200 South Main Street, Summerville, SC 29483. | https://msc.fema.gov/portal/advanceSearch. | May 18, 2023 | 450073
Dorchester | Unincorporated areas of Dorchester County (22-04-2209P). | Jason L. Ward, Dorchester County Administrator, 201 Johnston Street, St. George, SC 29477. | Dorchester County Building Services Department, 500 North Main Street, Summerville, SC 29483. | https://msc.fema.gov/portal/advanceSearch. | May 18, 2023 | 450068
Dorchester | Unincorporated areas of Dorchester County (22-04-2210P). | Jason L. Ward, Dorchester County Administrator, 201 Johnston Street, St. George, SC 29477. | Dorchester County Building Services Department, 500 North Main Street, Summerville, SC 29483. | https://msc.fema.gov/portal/advanceSearch. | May 18, 2023 | 450068
Texas:
Bexar | City of San Antonio (22-06-1472P). | The Honorable Ron Nirenberg, Mayor, City of San Antonio, P.O. Box 839966, San Antonio, TX 78283. | Public Works Department, Storm Water Division, 1901 South Alamo Street, 2nd Floor, San Antonio, TX 78204. | https://msc.fema.gov/portal/advanceSearch. | May 1, 2023 | 480045
Collin | City of Celina (22-06-1716P). | The Honorable Sean Terry, Mayor, City of Celina, 142 North Ohio Street, Celina, TX 75009. | Engineering Department, 142 North Ohio Street, Celina, TX 75009. | https://msc.fema.gov/portal/advanceSearch. | May 16, 2023 | 480133
Collin | City of Frisco (22-06-1755P). | The Honorable Jeff Cheney, Mayor, City of Frisco, 6101 Frisco Square Boulevard, Frisco, TX 75034. | Development Engineers Department, 6101 Frisco Square Boulevard, Frisco, TX 75034. | https://msc.fema.gov/portal/advanceSearch. | Apr. 24, 2023 | 480134
Collin | City of Wylie (22-06-1291P). | The Honorable Matthew Porter, Mayor, City of Wylie, 300 County Club Road, Building 100, Wylie, TX 75098. | City Hall, 300 County Club Road, Building 100, Wylie, TX 75098. | https://msc.fema.gov/portal/advanceSearch. | Apr. 17, 2023 | 480759
Collin | Unincorporated areas of Collin County (22-06-1291P). | The Honorable Chris Hill, Collin County Judge, 2300 Bloomdale Road, Suite 4192, McKinney, TX 75071. | Collin County Engineering Department, 4690 Community Avenue, Suite 200, McKinney, TX 75071. | https://msc.fema.gov/portal/advanceSearch. | Apr. 17, 2023 | 480130
Ellis | City of Waxahachie, (22-06-1707P). | The Honorable David Hill, Mayor, City of Waxahachie, 401 South Rogers Street, Waxahachie, TX 75165. | Public Works and Engineering Department, 401 South Rogers Street, Waxahachie, TX 75165. | https://msc.fema.gov/portal/advanceSearch. | Apr. 13, 2023 | 480211
Hidalgo | City of McAllen (22-06-2442P). | Roel Roy Rodriguez, Manager, City of McAllen, P.O. Box 220, McAllen, TX 78505. | Engineering Department, 311 North 15th Street, McAllen, TX 78501. | https://msc.fema.gov/portal/advanceSearch. | May 1, 2023 | 480343
Hidalgo | Unincorporated areas of Hidalgo County (22-06-2442P). | The Honorable Richard F. Cortez, Hidalgo County Judge, 100 East Cano Street, 2nd Floor, Edinburg, TX 78539. | Hidalgo County Drainage District No. 1, 902 North Doolittle Road, Edinburg, TX 78542. | https://msc.fema.gov/portal/advanceSearch. | May 1, 2023 | 480334
Kendall | Unincorporated areas of Kendall County (21-06-3424P). | The Honorable Darrel L. Lux, Kendall County Judge, 201 East San Antonio Avenue, Boerne, TX 78006. | Kendall County Engineer and Development Management Department, 201 East San Antonio Avenue, Boerne, TX 78006. | https://msc.fema.gov/portal/advanceSearch. | Apr. 17, 2023 | 480417
Kleberg | Unincorporated areas of Kleberg County (22-06-1663P). | The Honorable Rudy Madrid, Kleberg County Judge, P.O. Box 752, Kingsville, TX 78364. | Kleberg County Courthouse, 700 East Kleberg Avenue, Kingsville, TX 78363. | https://msc.fema.gov/portal/advanceSearch. | Apr. 14, 2023 | 480423
Rockwall | City of Rockwall (22-06-2295P). | The Honorable Kevin Fowler, Mayor, City of Rockwall, 385 South Goliad Street, Rockwall, TX 75087. | Engineering Department, 385 South Goliad Street, Rockwall, TX 75087. | https://msc.fema.gov/portal/advanceSearch. | Apr. 28, 2023 | 480547
Rockwall | Unincorporated areas of Rockwall County (22-06-2295P). | The Honorable David Sweet, Rockwall County Judge, 101 East Rusk Street, Suite 202, Rockwall, TX 75087. | Rockwall County Environmental Health Coordinator's Office/Floodplain Management, 915 Whitmore Drive, Suite D, Rockwall, TX 75087. | https://msc.fema.gov/portal/advanceSearch. | Apr. 28, 2023 | 480543
Tarrant | City of Fort Worth (22-06-1537P). | The Honorable Mattie Parker, Mayor, City of Fort Worth, 200 Texas Street, Fort Worth, TX 76102. | Department of Transportation and Public Works, Engineering Vault & Map Repository, 200 Texas Street, Fort Worth, TX 76102. | https://msc.fema.gov/portal/advanceSearch. | May 8, 2023 | 480596
Tarrant | Unincorporated areas of Tarrant County (22-06-1537P). | The Honorable B. Glen Whitley, Tarrant County Judge, 100 East Weatherford Street, Suite 501, Fort Worth, TX 76196. | Tarrant County Administration Building, 100 East Weatherford Street, Suite 401, Fort Worth, TX 76196. | https://msc.fema.gov/portal/advanceSearch. | May 8, 2023 | 480582
Wharton | Unincorporated areas of Wharton County (22-06-0763P). | The Honorable Phillip Spenrath, Wharton County Judge, 100 South Fulton Street, Suite 100, Wharton, TX 77488. | Wharton County Annex D, 315 East Milam Street, Suite 102, Wharton, TX 77488. | https://msc.fema.gov/portal/advanceSearch. | Apr. 13, 2023 | 480652
Utah:
Washington | City of St. George (22-08-0356P). | The Honorable Michele Randall, Mayor, City of St. George, 175 East 200 North, St. George, UT 84770. | Engineering Department, 175 East 200 North, St. George, UT 84770. | https://msc.fema.gov/portal/advanceSearch. | May 25, 2023 | 490177
Washington | Unincorporated areas of Washington County (22-08-0356P). | The Honorable Adam Snow, Chair, Washington County Commission, 197 East Tabernacle Street, St. George, UT 84770. | Washington County Planning and Zoning Department, 197 East Tabernacle Street, St. George, UT 84770. | https://msc.fema.gov/portal/advanceSearch. | May 25, 2023 | 490224
Virginia:
Buchanan | Unincorporated areas of Buchanan County (23-03-0007P). | Robert Craig Horn, Buchanan County Administrator, P.O. Box 950, Grundy, VA 24614. | Buchanan County Government Center, 4447 Slate Creek Road, 2nd Floor, Grundy, VA 24614. | https://msc.fema.gov/portal/advanceSearch. | May 5, 2023 | 510024
Prince William | Unincorporated areas of Prince William County (22-03-0474P). | Elijah Johnson, Acting Executive, Prince William County, 1 County Complex Court, Prince William, VA 22192. | Prince William County Water Management Branch, 5 County Complex Court, Suite 170, Prince William, VA 22192. | https://msc.fema.gov/portal/advanceSearch. | Apr. 14, 2023 | 510119

[FR Doc. 2023-05323 Filed 3-14-23; 8:45 am]

BILLING CODE 9110-12-P